DEPARTMENT OF COMMERCE

National Oceanic and Atmospheric Administration

RIN 0648-XA762

Caribbean Fishery Management Council; Public Meeting

AGENCY: National Marine Fisheries Service (NMFS), National Oceanic and Atmospheric Administration (NOAA), Commerce.

ACTION: Notice of a public meeting.

SUMMARY: The Caribbean Fishery Management Council's Scientific and Statistical Committee (SSC) will hold a meeting.

DATES: The SSC meeting will be held on November 15-16, 2011, from 9 a.m. to 5 p.m. The meeting is open to the public, and will be conducted in English.

ADDRESSES: The meeting will be held at the Embassy Suites Hotel, 8000 Tartak Street, Carolina, Puerto Rico 00979.

FOR FURTHER INFORMATION CONTACT: Caribbean Fishery Management Council, 268 Muñoz Rivera Avenue, Suite 1108, San Juan, Puerto Rico 00918-1920; telephone: (787) 766-5926.

SUPPLEMENTARY INFORMATION: The SSC will meet to discuss the items contained in the following agenda:

November 15, 2011—9 a.m.

—Call to order

—Discuss the legal responsibility of the SSC for providing OFL and ABC recommendations to the CFMC for species not undergoing overfishing and are not overfished (NOAA Legal Counsel)

—Revisit spiny lobster (Panulirus argus) recommendations for OFL ABC based on information provided by SERO/SEFSC/USVI DPNR/PRDNER for both Puerto Rico and the USVI

—Discuss whether a pilot ERAEF study in St. Thomas, USVI should be funded by the CFMC and discuss the scope of work, if it is recommended that such a project be funded

November 16, 2011—9 a.m.

—Continue discussion and make a recommendation to the CFMC regarding funding a pilot ERAEF study in St. Thomas, USVI

—Review fishery monitoring programs and provide recommendations

—Old business

—New business

—Next meeting

—Adjourn

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico 00918-1920, telephone: (787) 766-5926, at least 5 days prior to the meeting date.

Dated: October 20, 2011.
Tracey L. Thompson,
Acting Director, Office of Sustainable Fisheries, National Marine Fisheries Service.

[FR Doc. 2011-27582 Filed 10-24-11; 8:45 am]

BILLING CODE 3510-22-P